DEPARTMENT OF TRANSPORTATION

Federal Aviation Administration

Third Meeting: RTCA Special Committee 225: Rechargeable Lithium Batteries and Battery Systems—Small and Medium Sizes

AGENCY: Federal Aviation Administration (FAA), DOT.

ACTION: Notice of RTCA Special Committee 225 meeting: Rechargeable Lithium Batteries and Battery Systems—Small and Medium Sizes.

SUMMARY: The FAA is issuing this notice to advise the public of a meeting of RTCA Special Committee 225: Rechargeable Lithium Batteries and Battery Systems—Small and Medium Sizes.

DATES: The meeting will be held July 26-27, 2011, from 8:30 a.m. to 5 p.m.

ADDRESSES: The meeting will be held at RTCA, Inc., 1150 18th Street, Suite 910, NW., Washington, DC 20036.

FOR FURTHER INFORMATION CONTACT: RTCA Secretariat, 1150 18th Street, Suite 910, NW., Washington, DC 20036, telephone (202) 833-9339 or e-mail jiverson@rtca.org, fax (202) 833-9434, Web site http://www.rtca.org.

SUPPLEMENTARY INFORMATION: Pursuant to section 10(a)(2) of the Federal Advisory Committee Act (Pub. L. 92-463, 5 U.S.C., and Appendix 2), notice is hereby given for a Special Committee 225, Rechargeable Lithium Batteries and Battery Systems—Small and Medium Sizes.

Agenda

Tuesday July 26, 2011

• Welcome/Introductions/Administrative Remarks.

• Review of the meeting agenda.

• Review and approval of summary from the second plenary meeting RTCA paper no. 120-11/SC225-004.

• Review of action items.

• Review progress on requirement development from working group.

• Review new action items.

• Review agenda for Wednesday, July 27.

Wednesday July 27, 2011

• Review meeting agenda, other actions.

• Working Groups meeting.

• Working Group report, review progress and actions.

• Other Business.

• Establish Agenda for Fourth Plenary Meeting.

• Administrative Items (Meeting Schedule).

• Review all action items.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 23, 2011.
Kathy Hitt,
RTCA Advisory Committee.

[FR Doc. 2011-16592 Filed 6-30-11; 8:45 am]

BILLING CODE 4910-13-P